NATIONAL AERONAUTICS AND SPACE ADMINISTRATION

[Notice 12-089]

NASA Advisory Council; Education and Public Outreach Committee; Meeting

AGENCY: National Aeronautics and Space Administration.

ACTION: Notice of meeting.

SUMMARY: In accordance with the Federal Advisory Committee Act, Public Law 92-463, as amended, the National Aeronautics and Space Administration announces a meeting of the Education and Public Outreach Committee of the NASA Advisory Council (NAC).

DATES: Tuesday, November 27, 2012, 8:30 a.m. to 5:00 p.m., Local Time.

ADDRESSES: NASA Marshall Space Flight Center, Building 4200, Room 504, Marshall Space Flight Center, AL 35812.

FOR FURTHER INFORMATION CONTACT: This meeting will also take place telephonically and via WebEx. Any interested person should contact Ms. Erika G. Vick, Executive Secretary for the Education and Public Outreach Committee, National Aeronautics and Space Administration, Washington, DC 20546, at Erika.vick-1@nasa.gov, no later than 4:00 p.m., local time, November 23, 2012, to get further information about participating via teleconference and/or WebEx.

SUPPLEMENTARY INFORMATION: The agenda for the meeting includes the following topics:

• NASA Marshall Space Flight Center Education/Public Outreach Presentations

The meeting will be open to the public up to the seating capacity of the room. It is imperative that the meeting be held on this date to accommodate the scheduling priorities of the key participants. All U.S. citizens desiring to attend the NASA Advisory Council (NAC) meeting at the Marshall Space Flight Center (MSFC) must provide his or her full name, company affiliation (if applicable), citizenship, place of birth, and date of birth to the MSFC Protective Services Office no later than the close of business on November 19, 2012. All non-U.S. citizens must submit his or her name, current address, citizenship, company affiliation (if applicable) to include address, telephone number, and title, place of birth, date of birth, U.S. visa information to include type, number, and expiration date, U.S. Social Security Number (if applicable), Permanent Resident card number and expiration date (if applicable), place and date of entry into the U.S., and passport information to include country of issue, number, and expiration date to the MSFC Protective Services Office no later than the close of business on November 12, 2012. If the above information is not received by the noted dates, attendees should expect a minimum delay of two (2) hours. All visitors to this meeting will be required to process in through the Redstone/MSFC Joint Visitor Control Center located on Rideout Road, north of Gate 9 prior to entering MSFC. Please provide the appropriate data, via fax 256-544-2101, noting at the top of the page “Public Admission to the NASA Advisory Council (NAC) Meeting.” For security questions, please call Becky Hopson at 256-544-4541.

Patricia D. Rausch,
Advisory Committee Management Officer, National Aeronautics and Space Administration.

[FR Doc. 2012-26814 Filed 10-31-12; 8:45 am]

BILLING CODE 7510-13-P